INTERNATIONAL TRADE COMMISSION

[Investigation No. 731-TA-1022 (Third Review)]

Refined Brown Aluminum Oxide From China

Determination

On the basis of the record ¹ developed in the subject five-year review, the United States International Trade Commission (“Commission”) determines, pursuant to the Tariff Act of 1930 (“the Act”), that revocation of the antidumping duty order on refined brown aluminum oxide from China would be likely to lead to continuation or recurrence of material injury to an industry in the United States within a reasonably foreseeable time.

¹ The record is defined in sec. 207.2(f) of the Commission's Rules of Practice and Procedure (19 CFR 207.2(f)).

Background

The Commission instituted this review on September 3, 2019 (84 FR 46047) and determined on December 9, 2019 that it would conduct an expedited review (85 FR 3416, January 21, 2020).

The Commission made this determination pursuant to section 751(c) of the Act (19 U.S.C. 1675(c)). It completed and filed its determination in this review on February 20, 2020. The views of the Commission are contained in USITC Publication 5020 (February 2020), entitled Refined Brown Aluminum Oxide from China: Investigation No. 731-TA-1022 (Third Review).

By order of the Commission.
Issued: February 20, 2020.
Lisa Barton,
Secretary to the Commission.

[FR Doc. 2020-03755 Filed 2-24-20; 8:45 am]

BILLING CODE 7020-02-P